SOCIAL SECURITY ADMINISTRATION

Statement of Organization, Functions and Delegations of Authority

This statement amends Part S of the Statement of the Organization, Functions and Delegations of Authority which covers the Social Security Administration (SSA). Notice is given to reissue the Office of the Commissioner (SA) because the following organizations are being deleted: The Office of the Deputy Commissioner of Social Security (SAP), the Office of the Senior Executive Officer (SAK) and the Senior Advisor to the Commissioner (SAL). Notice is also being given that the following organizations are being established: The Office of Strategic Management (SAQ) and the Office of Executive Operations (SAR) The new material and changes are as follows: Section SA.00 The Office of the Commissioner—(Mission):

The Office of the Commissioner (OC) is directly responsible for all programs administered by SSA; for State-administered programs directed by SSA; and for certain functions with respect to the black lung benefits program. It provides executive leadership to SSA. The Office is responsible for development of policy, administrative and program direction, program interpretation and evaluation, maintenance of relations with news media, research oriented to the study of the problems of economic insecurity in American society; and development of recommendations on methods of advancing social and economic security through social insurance and related programs.

Section SA.10 The Office the Commissioner—(Organization):

The Office of the Commissioner, under the leadership of the Commissioner of Social Security, includes:

A. The Commissioner of Social Security (SA).

B. The Deputy Commissioner of Social Security (SA).

C. Immediate Office of the Commissioner (SA).

D. The Office of the Chief of Staff (SAN).

E. The Office of Strategic Management (SAQ).

F. The Office of Executive Operations (SAR).

Section SA.20 The Office of the Commissioner—(Functions):

A. The Commissioner of Social Security (SA) and Deputy Commissioner of Social Security provide executive leadership to SSA and exercise general supervision over its major components. The Chief Information Officer is also located in the immediate Office of the Commissioner and reports directly to the Commissioner on statutorily defined CIO duties and as a key advisor to the Deputy Commissioner of Social Security.

B. The Deputy Commissioner of Social Security (SA) assists the Commissioner in carrying out his/her responsibilities and performs other duties as the Commissioner may prescribe.

C. The Immediate Office of the Commissioner (SA), including the Chief Information Officer, provides the Commissioner and Deputy Commissioner of Social Security with staff assistance on the full range of responsibilities.

D. The Chief of Staff (SAN) provides day-to-day support to the Commissioner and Deputy Commissioner in matters relating to program policy, administration, communications and external liaison.

E. The Office of Strategic Management (SAQ).

1. Directs the development of the Agency's tactical and strategic planning process, and develops and promulgates planning policies, procedures and methodologies for the Agency.

2. Produces the Agency Strategic Plan, Annual Performance Plan and Annual Performance Report; establishes and implements a framework for the effective integration of planning functions with evaluation and management of SSA resources, projects and activities in accordance with applicable law and regulations; oversees and integrates the Agency's Service Vision objectives into the Agency's strategic and tactical planning processes.

3. Ensures that the budget process focuses resources on priority initiatives that support the Agency's strategic objectives and goals, and that the appropriate measures are built to determine Agency performance, and validates and monitors Agency performance goals attainment.

4. Supports an ongoing market measurement program that collects and assesses employee, customer and stakeholder feedback to be used and provides staff support to the Office of the Commissioner on strategic initiatives and on high priority issues, directing special Agency-level cross-cutting projects.

F. The Office of Executive Operations (SAR).

1. Coordinates priority matters requiring the attention of, or decision by, the Commissioner and directs the tracking and monitoring of actions assigned by the Commissioner to all Agency components.

2. Coordinates and provides liaison for internal communication and correspondence control for OC.

3. Monitors administrative and program policy development and policy implementation activities, and prepares periodic status reports.

4. Ensures that issues requiring the Commissioner's attention are developed timely and coordinated with SSA and other Federal Agencies having an interest in the matter; designs and implements procedures for proper coordination and follows through on specific issues.

5. Expedites regulation development, review, clearance, publication and issuance. Oversees the management of the final stages of regulations development and clearance prior to submittal to the Commissioner.

6. Communicates the objectives, priorities and standards of OC to individuals involved in the preparation of correspondence and memoranda, and ensures that communications signed or approved by OC are consistent with these standards and objectives.

7. Reviews and analyzes memoranda and other communications directed to OC for adequacy of coordination and clearances, clearness and conciseness of presentation, timeliness, necessary follow through and other elements of completed staff work.

8. Works with functional components and staff offices to improve the quality of decision papers and correspondence.

Dated: October 16, 2001.
Larry G. Massanari,
Acting Commissioner of Social Security.

[FR Doc. 01-26657 Filed 10-22-01; 8:45 am]

BILLING CODE 4191-02-P